DEPARTMENT OF LABOR

Employment and Training Administration

[TA-W-82,481]

HarperCollins Publishers Distribution Operations Including On-Site Leased Workers From Action Personnel, CGA Staffing Services, Dynamic Staffing, Kelly Services, Manpower, Canteen, Bulldog Maintenance Company, Inc., Action Lift, and Krayer Detective Agency Including Off-Site Leased Workers From D's Packaging and Rennobs, Scranton, Pennsylvania; Amended Certification Regarding Eligibility To Apply for Worker Adjustment Assistance

In accordance with Section 223 of the Trade Act of 1974, as amended (“Act”), 19 U.S.C. 2273, the Department of Labor issued a Certification of Eligibility to Apply for Worker Adjustment Assistance on April 19, 2013, applicable to workers of HarperCollins Publishers, Distribution Operations, including on-site leased workers from Action Personnel, CGA Staffing Services, Dynamic Staffing, Kelly Services, and Manpower, Scranton, Pennsylvania. The Department's notice of determination was published in the Federal Register on May 15, 2013 (Volume 78 FR Pages 28628-28630).

At the request of the State Workforce Office, the Department reviewed the certification for workers of the subject firm. The workers were engaged in production of books.

The state reports that workers leased from Canteen, Bulldog Maintenance Company, Inc., Action Lift, and Krayer Detective Agency were employed on-site at the Scranton, Pennsylvania location of HarperCollins Publishers. The state also reports that workers leased from D's Packaging and Rennobs were employed off-site but were under the operational control of HarperCollins Publishers. The Department has determined that these workers were sufficiently under the control of the subject firm to be considered leased workers, and that their total or partial separations or threat of total or partial separations are attributable to the same increased customer imports that were the basis of the original certification.

Based on these findings, the Department is amending this certification to include workers leased from Canteen, Bulldog Maintenance Company, Inc., Action Lift, Krayer Detective Agency, D's Packaging and Rennobs.

The amended notice applicable to TA-W-82,481 is hereby issued as follows:

“All workers of HarperCollins Publishers, Distribution Operations, including on-site leased workers from Action Personnel, CGA Staffing Services, Dynamic Staffing, Kelly Services, Manpower, Canteen, Bulldog Maintenance Company, Inc., Action Lift, and Krayer Detective Agency, and including off-site leased workers from D's Packaging and Rennobs, Scranton, Pennsylvania, who became totally or partially separated from employment on or after February 19, 2012 through April 19, 2015, and all workers in the group threatened with total or partial separation from employment on the date of certification through April 19, 2015, are eligible to apply for adjustment assistance under Chapter 2 of Title II of the Trade Act of 1974, as amended.”

Signed in Washington, DC this 2nd day of July, 2013.
Michael W. Jaffe,
Certifying Officer, Office of Trade Adjustment Assistance.

[FR Doc. 2013-17116 Filed 7-16-13; 8:45 am]

BILLING CODE 4510-FN-P